DEPARTMENT OF STATE

[Public Notice 5752]

Deadline for Initial Accreditation or Approval for Agencies and Persons in Order To Be Accredited/Approved When the Hague Adoption Convention Enters Into Force for the United States

AGENCY: Department of State.

ACTION: Notice.

SUMMARY: Pursuant to the Intercountry Adoption Act of 2000 (the IAA), the Department of State (the Department) is the Central Authority for the United States for implementation of the 1993 Hague Convention on Protection of Children and Cooperation in Respect of Intercountry Adoption (the Convention). Once the Convention enters into force for the United States, agencies and persons that provide adoption services in cases covered by the Convention must be accredited, temporarily accredited, approved, or otherwise exempt. The Department previously announced in the Federal Register the establishment of the transitional application deadline (TAD) for accreditation and approval as November 17, 2006. The Department is now setting the deadline for initial accreditation or approval (DIAA) for February 15, 2008. All agencies and persons that applied by the TAD must complete the accreditation/approval process by February 15, 2008, to be eligible for accreditation, temporary accreditation, or approval at the time the Convention enters into force for the United States.

FOR FURTHER INFORMATION CONTACT: Anna Mary Coburn at 202-736-9081. Hearing or speech-impaired persons may use the Telecommunications Devices for the Deaf (TDD) by contacting the Federal Information Relay Service at 1-800-877-8339.

SUPPLEMENTARY INFORMATION: The Convention is a multilateral treaty that provides a framework for the adoption of children habitually resident in one country that is a party to the Convention by persons habitually resident in another country that is also a party to the Convention. The Convention establishes procedures to be followed in these intercountry adoption cases and imposes safeguards to protect the best interests of children. When the Convention enters into force for the United States, it will apply to the United States as both a country of origin (outgoing cases, i.e., where children are emigrating from the United States to a foreign country) and a receiving country (incoming cases, i.e., where children are immigrating to the United States from a foreign country). The implementing legislation for the Convention is the IAA. Under the Convention, the IAA, and the final rule on accreditation, 22 CFR part 96, all agencies and persons providing adoption services must be accredited, temporarily accredited, approved, or exempt in order to provide adoption services in Convention cases.

The DIAA is February 15, 2008. The DIAA means that any agency or person that applied by the TAD must complete the accreditation/approval process by February 15, 2008, in order to be eligible for accreditation, temporary accreditation, or approval at the time the Convention enters into force for the United States. All agencies and persons must complete the accreditation or approval process, including the correction of any identified deficiencies, by February 15, 2008, if they are seeking accreditation, temporary accreditation, or approval by the time the Convention enters into force for the United States. Agencies and persons can seek accreditation after the DIAA and will be added to the list of approved persons and accredited agencies when approval or accreditation is granted.

The DIAA date is not the date that the Convention will enter into force for the United States. Before the Convention enters into force for the United States, the United States must deposit its instrument of ratification with the Ministry of Foreign Affairs of the Kingdom of the Netherlands, in accordance with Article 43 of the Convention. The United States intends to deposit its instrument of ratification in late 2007. The Convention will enter force for the United States on the first day of the month following the expiration of three months after the date of deposit. In accordance with 22 CFR 96.17, the Department will publish a notice in the Federal Register announcing the date on which the Convention will enter into force for the United States.

Dated: April 5, 2007.
Maura Harty,
Assistant Secretary, Bureau of Consular Affairs, Department of State.

[FR Doc. E7-6866 Filed 4-10-07; 8:45 am]

BILLING CODE 4710-06-P